DEPARTMENT OF COMMERCE

Bureau of the Census

Census Bureau 2020 Advisory Committee

AGENCY: Bureau of the Census, Department of Commerce.

ACTION: Notice of Request for Nominations.

SUMMARY: The Bureau of the Census (Census Bureau) is requesting nominations of organizations to the Census Bureau 2020 Advisory Committee. The Census Bureau will consider nominations received in response to this notice, as well as from other sources. The SUPPLEMENTARY INFORMATION section of this notice provides Committee and membership criteria.

DATES: Please submit nominations by January 19, 2017.

ADDRESSES: Please submit nominations to Tara Dunlop Jackson, Branch Chief for Advisory Committees, Customer Liaison and Marketing Services Office, tara.t.dunlop@census.gov, Department of Commerce, U.S. Census Bureau, Room 8H177, 4600 Silver Hill Road, Washington, DC 20233, telephone 301-763-5222.

FOR FURTHER INFORMATION CONTACT: Tara Dunlop Jackson, Branch Chief for Advisory Committees, Customer Liaison Marketing Services Offices, U.S. Census Bureau, Room 8H177, 4600 Silver Hill Road, Washington, DC 20233, telephone (301) 763-5222 or tara.t.dunlop@census.gov. For TTY callers, please use the Federal Relay Service 1-800-877-8339.

SUPPLEMENTARY INFORMATION: The Census Bureau 2020 Advisory Committee (“Committee”) is established in accordance with the Federal Advisory Committee Act (FACA), Title 5, United States Code (U.S.C.), Appendix 2. The following provides information about the Committee, membership, and the nomination process.

Objectives and Duties

1. The Committee will provide formal review and feedback related to 2020 Census plans and execution to devise strategies to increase census awareness, reduce barriers to response, and enhance the public's trust and willingness to respond.

2. The Committee will consider implications of enumeration strategies, new technologies, the role of state and local governments, social media and marketing, and the outreach and mobilization needs of historically undercounted populations.

3. The Committee will address and provide recommendations on external factors and policies that may affect 2020 Census plans and identify strategies to increase Census awareness, participation and response by the American public.

4. The Committee will help the Census Bureau communicate with and educate diverse audiences on 2020 Census plans and operations.

5. The Committee will provide recommendations to educate the public at key 2020 Census decision points, milestones, and production dates to ensure maximum self-response and participation by the public in the 2020 Census.

6. The Committee will devise and recommend strategies to motivate people to respond to the 2020 Census through Internet self-response and other forms of enumeration, as appropriate (i.e., paper or by telephone through the Census Questionnaire Assistance Program).

7. The Committee will consider the Census Bureau's outreach, communications, and partnership efforts providing perspectives on community trends, challenges, and opportunities to increase public awareness and participation in the 2020 Census.

8. The Committee will provide insight, perspectives, and expertise on all aspects of 2020 Census planning and implementation to assist the Census Bureau in conducting an accurate decennial census.

9. The Committee will function solely as an advisory body and shall fully comply with the provisions of the FACA in providing insight, perspectives, and expertise on 2020 Census plans and execution.

Membership

1. The Committee will consist of up to 25 members who will be appointed by and serve at the discretion of the Director.

2. Member organizations will be selected from the public and private sectors, and have expertise in census and survey matters. Members will represent specific areas to include: Diverse populations; national, state, local and tribal interest; hard-to-count populations; research; community-based organizations; academia; business interests; marketing and media industries; and professional associations.

3. Membership shall include representatives of organizations reflecting diverse populations; national, state, local and tribal interests; organizations serving hard to count populations; community-based organizations; and the private sector.

4. Organizations should designate both a primary and an alternate representative.

5. Members will serve for a three-year term. All members will be reevaluated at the conclusion of each term with the prospect of renewal, pending Committee and 2020 decennial census needs. Active attendance and participation in meetings and activities (i.e., conference calls and assignments) will be factors considered when determining term renewal or membership continuance. Members may be appointed for a second, three-year term at the discretion of the Director.

6. The Committee aims to have a balanced representation among its members, considering such factors as geography, technical expertise, community involvement and knowledge of census programs and/or activities.

7. No employee of the federal government can serve as a member of the Committee.

8. Members will be selected according to protocols and applicable Department of Commerce guidance.

Miscellaneous

1. Members of the Committee serve without compensation, but receive reimbursement for Committee-related travel and lodging expenses.

2. The Committee meets at least twice a year, budget permitting, but additional meetings may be held as deemed necessary by the Census Director or Designated Federal Officer. All Committee meetings are open to the public in accordance with the FACA.

Nomination Process

1. Nominations should satisfy the requirements described in the Membership section above.

2. Individuals, groups, and/or organizations may submit nominations on behalf of candidates. A summary of the candidate's qualifications (resumé or curriculum vitae) must be included along with the nomination letter. Nominees must be able to actively participate in the tasks of the Committee, including, but not limited to regular meeting attendance, Committee meeting discussant responsibilities, review of materials, as well as participation in conference calls, webinars, working groups, and/or special Committee activities.

3. The Department of Commerce is committed to equal opportunity in the workplace and seeks diverse Advisory Committee membership.

Dated: December 9, 2016.
John H. Thompson,
Director, Bureau of the Census.

[FR Doc. 2016-30605 Filed 12-19-16; 8:45 am]

BILLING CODE 3510-07-P